DEPARTMENT OF STATE

[Public Notice: 12366]

Notice of Department of State Sanctions Actions

ACTION: Notice of designation.

SUMMARY: Pursuant to the authority in the Executive Order, “Blocking Property of Certain Persons with Respect to the Conventional Arms Activities of Iran,” and delegated authority, the Under Secretary of State for Arms Control and International Security, in consultation with the Secretary of the Treasury and the Attorney General, has determined that Iran Aircraft Manufacturing Industrial Company, Islamic Republic of Iran Air Force, Rosoboroneksport OAO, 924th State Center for UAV Aviation, Russian Aerospace Forces, and the Command of the Military Transport Aviation engage in activity that materially contributes to the supply, sale, or transfer, directly or indirectly, to or from Iran, or for the use in or benefit of Iran, of arms or related materiel, including spare parts. Additionally, pursuant to the authority in the Executive Order, “Blocking Property of Weapons of Mass Destruction Proliferators and Their Supporters,” and delegated authority, the Under Secretary of State for Arms Control and International Security, in consultation with the Secretary of the Treasury and the Attorney General, has determined that Amir Radfar and Vahid Soleimani, engaged, or attempted to engage, in activities or transactions that have materially contributed to, or pose a risk of materially contributing to, the proliferation of weapons of mass destruction or their means of delivery (including missiles capable of delivering such weapons), including any efforts to manufacture, acquire, possess, develop, transport, transfer or use such items, by Iran, a country of proliferation concern. The entities and individuals above have been added to the List of Specially Designated Nationals and Blocked Persons (SDN List) maintained by the Department of the Treasury's Office of Foreign Assets Control (OFAC).

DATES: The Under Secretary for Arms Control and International Security made these designations pursuant to E.O. 13949 and E.O. 13382 and delegated authorities, on October 16, 2023.

FOR FURTHER INFORMATION CONTACT: Thomas Zarzecki, Director, Office of Counterproliferation Initiatives, Bureau of International Security and Nonproliferation, Department of State, Washington, DC 20520, tel.: 202-647-5193.

SUPPLEMENTARY INFORMATION:

Electronic Availability

The SDN List and additional information concerning OFAC sanctions programs are available from OFAC's website at http://www.treasury.gov/ofac.

Notice of Department of State Actions

On September 21, 2020, the President, invoking the authority, inter alia, of the International Emergency Economic Powers Act (50 U.S.C. 1701-1706) (“IEEPA”), issued Executive Order 13949 (the “Order”), effective on September 21, 2020. In the Order the President took additional steps with respect to the national emergency declared in Executive Order (E.O.) 12957 of March 15, 1995 to counter Iran's malign influence in the Middle East, including transfers from Iran of destabilizing conventional weapons and acquisition of arms and related materiel by Iran.

Section 1 of the Order blocks, with certain exceptions, all property and interests in property that are in the United States, that hereafter come within the United States, or that are or hereafter come within the possession or control of any United States person of the following persons are blocked and may not be transferred, paid, exported, withdrawn, or otherwise dealt in: (i) any person determined by the Secretary of State, in consultation with the Secretary of the Treasury, to engage in any activity that materially contributes to the supply, sale, or transfer, directly or indirectly, to or from Iran, or for the use in or benefit of Iran, of arms or related materiel, including spare parts; (ii) any person determined by the Secretary of State, in consultation with the Secretary of the Treasury, to provide to Iran any technical training, financial resources or services, advice, other services, or assistance related to the supply, sale, transfer, manufacture, maintenance, or use of arms and related materiel described in subsection (a)(i) of this section; (iii) any person determined by the Secretary of State, in consultation with the Secretary of the Treasury, to have engaged, or attempted to engage, in any activity that materially contributes to, or poses a risk of materially contributing to, the proliferation of arms or related materiel or items intended for military end-uses or military end-users, including any efforts to manufacture, acquire, possess, develop, transport, transfer, or use such items, by the Government of Iran (including persons owned or controlled by, or acting for or on behalf of the Government of Iran) or paramilitary organizations financially or militarily supported by the Government of Iran; (iv) any person determined by the Secretary of the Treasury, in consultation with the Secretary of State, to have materially assisted, sponsored, or provided financial, material, or technological support for, or goods or services to or in support of, any person whose property and interests in property are blocked pursuant to this order; or (v) any person determined by the Secretary of the Treasury, in consultation with the Secretary of State, to be owned or controlled by, or to have acted or purported to act for or on behalf of, directly or indirectly, any person whose property and interests in property are blocked pursuant to this order.

On June 28, 2005, the President, invoking the authority, inter alia, of the International Emergency Economic Powers Act (50 U.S.C. 1701-1706) (“IEEPA”), issued Executive Order 13382 (70 CFR 38567, July 1, 2005) (the “Order”), effective at 12:01 a.m. eastern daylight time on June 30, 2005. In the Order the President took additional steps with respect to the national emergency described and declared in Executive Order 12938 of November 14, 1994, regarding the proliferation of weapons of mass destruction and the means of delivering them.

Section 1 of the Order blocks, with certain exceptions, all property and interests in property that are in the United States, or that hereafter come within the United States or that are or hereafter come within the possession or control of United States persons, of: (1) The persons listed in the Annex to the Order; (2) any foreign person determined by the Secretary of State, in consultation with the Secretary of the Treasury, the Attorney General, and other relevant agencies, to have engaged, or attempted to engage, in activities or transactions that have materially contributed to, or pose a risk of materially contributing to, the proliferation of weapons of mass destruction or their means of delivery, including any efforts to manufacture, acquire, possess, develop, transport, transfer or use such items, by any person or foreign country of proliferation concern; (3) any person determined by the Secretary of the Treasury, in consultation with the Secretary of State, the Attorney General, and other relevant agencies, to have provided, or attempted to provide, financial, material, technological or other support for, or goods or services in support of, any activity or transaction described in clause (2) above or any person whose property and interests in property are blocked pursuant to the Order; and (4) any person determined by the Secretary of the Treasury, in consultation with the Secretary of State, the Attorney General, and other relevant agencies, to be owned or controlled by, or acting or purporting to act for or on behalf of, directly or indirectly, any person whose property and interests in property are blocked pursuant to the Order.

As a result of this action, all property and interests in property of Iran Aircraft Manufacturing Industrial Company, Islamic Republic of Iran Air Force, Rosoboroneksport OAO, 924th State Center for UAV Aviation, Russian Aerospace Forces, Command of the Military Transport Aviation, Amir Radfar, and Vahid Soleimani that are in the United States, or that hereafter come within the United States or that are or hereafter come within the possession or control of United States persons are blocked and may not be transferred, paid, exported, withdrawn, or otherwise dealt in.

Identifying information on the designees is as follows:

The Department of State has designated the following six entities pursuant to E.O. 13949 Section l(a)(i) for materially contributing to the supply, sale, or transfer, directly or indirectly, to or from Iran, or for the use in or benefit of Iran, of arms or related materiel, including spare parts.:

IRAN AIRCRAFT MANUFACTURING INDUSTRIAL COMPANY (a.k.a.: “HESA”; a.k.a.: HESA TRADE CENTER; a.k.a.: “HTC”; a.k.a.: IRAN AIRCRAFT MANUFACTURING INDUSTRIES; a.k.a.: “IAMI”; a.k.a.: IRAN AIRCRAFT MANUFACTURING COMPANY; a.k.a.: “IAMCO”; a.k.a.: KARKHANEJATE SANAYE HAVAPAYMAIE IRAN; a.k.a.: “HAVA PEYMA SAZI-E IRAN”; a.k.a.: “HAVAPEYMA SAZI IRAN”; a.k.a.: “HAVAPEYMA SAZHRAN”; a.k.a.: “HEVAPEIMASAZI”; a.k.a.: “SHAHIN CO.”), P.O. Box 83145-311, 28 km Esfahan—Tehran Freeway, Shahin Shahr, Esfahan, Iran; P.O. Box 14155-5568, No. 27, Shahamat Ave, Vallie Asr Sqr, Tehran, 15946, Iran; P.O. Box 81465-935, Esfahan, Iran; Shahih Shar Industrial Zone, Esfahan, Iran; P.O. Box 8140, No. 107 Sepahbod Gharany Ave, Tehran, Iran; National ID No. 10100722073 (Iran); Registration Number 26740 (Iran) [IRAN-CON-ARMS-EO].

ISLAMIC REPUBLIC OF IRAN AIR FORCE (a.k.a.: “IRIAF”; a.k.a.: “NAHAJA”), Doshan Tappeh Air Base, Tehran, Tehran Province, Iran; Target Type: Government Entity; website https://nahaja.aja.ir [IRAN-CON-ARMS-EO].

ROSOBORONEKSPORT OAO (a.k.a.: RUSSIAN DEFENSE EXPORT ROSOBORONEXPORT; a.k.a.: ROSOBORONEXPORT JSC; a.k.a.: ROSOBORONEKSPORT OJSC), 27 STROMYNKA UL. MOSCOW, POSTAL CODE 107076, RUSSIA; Registration Number 1117746521452 (Russia); Government Gazette Number 56467052 (Russia); Tax ID No. 7718852163 (Russia) [IRAN-CON-ARMS-EO].

924th STATE CENTER FOR UAV AVIATION (a.k.a.: “924 GTsBA”; a.k.a.: Federalnoe Kazennoe Uchrezhdenie Voiskovaia Chast 20924; a.k.a.: Federal State Institution Military Unit 20924), 5 proezd Artilleristov, Kolomna, Moscow Oblast, 140415, Russia; Tax ID No. 5022050639 (Russia); Registration Number. 1165022050808 (Russia); Organization Established Date 2013; Target Type: Government Entity [IRAN-CON-ARMS-EO].

RUSSIAN AEROSPACE FORCES (a.k.a.: “VKS”), Kolymazhnyy Pereulok 14, Moscow, Russia; Target Type: Government Entity; Organization Established Date August 01, 2015 [IRAN-CON-ARMS-EO].

COMMAND OF THE MILITARY TRANSPORT AVIATION (a.k.a.: “Military Transport Aviation; a.k.a.: “VTA Command”; a.k.a.: “VTA”; a.k.a.: Federalnoe Kazennoe Uchrezhdenie Voiskovaia Chast 25969; a.k.a.: Federal State Institution Military Unit 25969; International a.k.a.: Военно-транспортная Авиация (Cyrillic); a.k.a.: BTA (Cyrillic)), ul. Matrosskaia Tishina, 10, Moscow, 107014, Russia; Tax ID No. 7718786880 (Russia); Registration Number 1097746767821 (Russia); Target Type: Government Entity; Established Date June 01, 1931 [IRAN-CON-ARMS-EO].

The Department of State has designated the following two Iranian individuals pursuant to E.O. 13382 Section l(a)(ii) for engaging, or attempting to engage, in activities or transactions that have materially contributed to, or pose a risk of materially contributing to, the proliferation of weapons of mass destruction or their means of delivery (including missiles capable of delivering such weapons), including any efforts to manufacture, acquire, possess, develop, transfer or use such items, by Iran:

RADFAR, Amir, Iran; DOB 22 Dec 1971; nationality Iran; Gender Male [NPWMD].

SOLEIMANI, Vahid, Iran; DOB 6 Dec 1968; nationality Iran; Gender Male [NPWMD].

The entities and individuals above have been added to the List of Specially Designated Nationals and Blocked Persons.

Gonzalo O. Suarez,
Deputy Assistant Secretary, International Security and Nonproliferation, Department of State.

[FR Doc. 2024-06790 Filed 3-29-24; 8:45 am]

BILLING CODE 4710-27-P